DEPARTMENT OF TRANSPORTATION

Coast Guard

[USCG-2002-12530]

Chemical Transportation Advisory Committee

AGENCY: Coast Guard, DOT.

ACTION: Notice of meeting.

SUMMARY: The Subcommittee of the Chemical Transportation Advisory Committee (CTAC) on Vessel Cargo Tank Overpressurization will meet to continue working on their subcommittee task statement. The subcommittee will meet to discuss final recommendations for CTAC in an effort to prevent cargo tank overpressurization during inerting, padding, purging, line clearing, and railcar transfer operations. This meeting will be open to the public.

DATES: The subcommittee will meet on Monday, July 8, 2002, from 9 a.m. to 4 p.m. This meeting may close early if all business is finished. Written material and requests to make oral presentations should reach the Coast Guard on or before July 3, 2002. Requests to have a copy of your material distributed to each member of the subcommittee should reach the Coast Guard on or before July 3, 2002.

ADDRESSES: The subcommittee will meet at Stolt-Nielsen Transportation Group Ltd., 15635 Jacintoport Blvd., Houston, Texas. Send written material and requests to make oral presentations to Lieutenant Michael McKean, Coast Guard technical representative for the subcommittee, Commandant (G-MSO-3), U.S. Coast Guard Headquarters, 2100 Second Street SW., Washington, DC 20593-0001. This notice is available on the Internet at http://dms.dot.gov.

FOR FURTHER INFORMATION CONTACT: Lieutenant Michael McKean, the Coast Guard technical representative for the subcommittee, telephone 202-267-0087, fax 202-267-4570.

SUPPLEMENTARY INFORMATION: Notice of this meeting is given under the Federal Advisory Committee Act, 5 U.S.C. App. 2.

Agenda of Meeting

The agenda of the CTAC Subcommittee on Vessel Cargo Tank Overpressurization includes the following:

(1) Introduce subcommittee members and attendees.

(2) Briefly review subcommittee tasking and desired outcome.

(3) Discuss and document final recommendations to CTAC for the development of an industry standard that will address the prevention of cargo tank overpressurization during inerting, padding, purging, line clearing, and railcar transfer operations.

Procedural

This meeting is open to the public. Please note that the meeting may close early if all business is finished. All attendees at the meeting are encouraged to fully review the subcommittee's past work prior to the meeting. Copies of the subcommittee's past work can be obtained from Lieutenant Michael McKean, telephone 202-267-0087, fax 202-267-4570. Information is also available from the CTAC Internet Web site at: www.uscg.mil/hq/g-m/advisory/ctac. At the discretion of the subcommittee chair, members of the public may make oral presentations during the meeting. If you would like to make an oral presentation at the meeting, please notify the Coast Guard technical representative for the subcommittee and submit written material on or before July 3, 2002. If you would like a copy of your material distributed to each member of the subcommittee in advance of the meeting, please submit 25 copies to the Coast Guard technical representative for the subcommittee no later than July 3, 2002.

Information on Services for Individuals With Disabilities

For information on facilities or services for individuals with disabilities, or to request special assistance at the meeting, contact the Coast Guard technical representative for the subcommittee as soon as possible.

Dated: June 19, 2002.
Joseph J. Angelo,
Director of Standards, Marine Safety, Security and Environmental Protection.

[FR Doc. 02-15905 Filed 6-24-02; 8:45 am]

BILLING CODE 4910-15-P